DEPARTMENT OF THE INTERIOR

Office of Surface Mining Reclamation and Enforcement

[S1D1S SS08011000 SX064A000 167S180110; S2D2S SS08011000 SX064A000 16XS501520]

North Cumberland Wildlife Management Area, Tennessee Lands Unsuitable for Mining Draft Petition Evaluation Document and Environmental Impact Statement—OSM-EIS-37

AGENCY: Office of Surface Mining Reclamation and Enforcement, Interior.

ACTION: Reopening of the public comment period.

SUMMARY: On December 11, 2015, the Office of Surface Mining Reclamation and Enforcement (OSMRE) announced the availability for public review and comment of the draft Petition Evaluation Document and Environmental Impact Statement (PED/EIS) for the North Cumberland Wildlife Management Area Petition to Find Certain Lands Unsuitable for Surface Coal Mining Operations. The comment period ended on January 25, 2016. After receiving multiple requests for additional time to prepare and submit comments, OSMRE has decided to reopen the comment period for submitting comments regarding the draft PED/EIS. The comment period is reopened through February 26, 2016.

DATES: Electronic or written comments: OSMRE will accept electronic or written comments, data, and information in response to the draft PED/EIS received no later than February 26, 2016.

ADDRESSES: Comments may be submitted using any of the following methods:

Electronic Comments: http://www.osmre.gov/programs/rcm/TNLUM.shtm. Please follow the online instructions for submitting comments.

Mail/Hand-Delivery/Courier: Earl D. Bandy Jr., Director—Knoxville Field Office, Office of Surface Mining Reclamation and Enforcement, John J. Duncan Federal Building, 710 Locust Street, 2nd Floor Knoxville, Tennessee 37902.

You may review the draft PED/EIS online at http://www.osmre.gov/programs/rcm/TNLUM.shtm. You also may review these documents in person at the location listed below.

FOR FURTHER INFORMATION CONTACT: Earl D. Bandy Jr., Director—Knoxville Field Office, Office of Surface Mining Reclamation and Enforcement, John J. Duncan Federal Building, 710 Locust Street, 2nd Floor, Knoxville, Tennessee 37902. Telephone: 865-545-4103. Email: TNLUM@OSMRE.gov.

SUPPLEMENTARY INFORMATION: On December 11, 2015, OSMRE announced the availability for public review and comment of the draft Petition Evaluation Document and Environmental Impact Statement for the North Cumberland Wildlife Management Area Petition to Find Certain Lands Unsuitable for Surface Coal Mining Operations. 80 FR 77018 (Dec. 11, 2015). The notice provided for the submission of comments by January 25, 2016.

OSMRE received multiple requests, including a letter from five members of the Tennessee Congressional Delegation, that OSMRE provide additional time for the public to prepare and submit comments. In response to these requests, OSMRE is reopening the public comment period to allow interested parties to provide OSMRE with written comments in response to the draft PED/EIS.

OSMRE will consider any comments in response to the draft PED/EIS received by midnight of February 26, 2016, and deems any comments received by that time to be timely submitted.

Authority: 40 CFR 1506.1, 40 CFR 1506.6.

Dated: February 1, 2016.
Thomas D. Shope,
Regional Director, Appalachian Region.

[FR Doc. 2016-02449 Filed 2-5-16; 8:45 am]

BILLING CODE 4310-05-P